DEPARTMENT OF THE INTERIOR

National Park Service

[NPS-WASO-NRNHL-13136; PPWOCRADI0, PCU00RP14.R50000]

National Register of Historic Places; Notification of Pending Nominations and Related Actions

Nominations for the following properties being considered for listing or related actions in the National Register were received by the National Park Service before May 18, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by July 3, 2013. Before including your address, phone number, email address, or other personal identifying information in your comment, you should be aware that your entire comment—including your personal identifying information—may be made publicly available at any time. While you can ask us in your comment to withhold your personal identifying information from public review, we cannot guarantee that we will be able to do so.

Dated: May 28, 2013.
J. Paul Loether,
Chief, National Register of Historic Places/National Historic Landmarks Program.

CONNECTICUT

Hartford County

Kensington Soldier's Monument, 312 Percival Ave., Berlin, 13000456

HAWAII

Honolulu County

East-West Center Complex, 1601 East-West Rd., Honolulu, 13000457

Maui County

Kaluakini, William K., House, 450 Front St., Lahaina, 13000458

MARYLAND

Allegany County

Footer's Dye Works, S. Mechanic & Howard Sts., Cumberland, 13000460

Baltimore Independent city

American Ice Company, 2100 W. Franklin St., Baltimore, 13000459

NEW JERSEY

Somerset County

Lyons Veterans Administration Hospital Historic District (United States Second Generation Veterans Hospitals MPS), 151 Knollcroft Rd., Lyons, 13000461

NEW YORK

Erie County

Hamlin Park Historic District, Beverly, Donaldson, Hamlin, & Lonsdale Rds., Blaine, Butler, E. Delevan, Goulding, Hughs, Jefferson & Loring Aves., Buffalo, 13000462

Suffolk County

Corwith, William, House, 2368 Montauk Hwy., Bridgehampton, 13000463

SOUTH CAROLINA

Florence County

Snow's Island (Boundary Increase), Address Restricted, Johnsonville, 13000464

York County

Catawba Rosenwald School, (Rosenwald School Building Program in South Carolina, 1917-1932 MPS), 3071 S. Anderson Rd., Catawba, 13000465

WISCONSIN

Door County

AUSTRALASIA (wooden bulk carrier) Shipwreck (Great Lakes Shipwreck Sites of Wisconsin MPS) 820 ft. SE. of Whitefish Dunes State Park, Sevastopol, 13000466

Kewaunee County

AMERICA (canaller) Shipwreck (Great Lakes Shipwreck Sites of Wisconsin MPS), 4 mi. offshore, Carlton, 13000467

Milwaukee County

EMBA (self-unloading barge) Shipwreck (Great Lakes Shipwreck Sites of Wisconsin MPS), 5 mi. E. of North Point, Milwaukee, 13000468

[FR Doc. 2013-14370 Filed 6-17-13; 8:45 am]

BILLING CODE 4312-51-P